FEDERAL COMMUNICATIONS COMMISSION

47 CFR Part 73

[DA 04-3338; MB Docket No. 02-248; RM-10537, 10710]

Radio Broadcasting Services; Markham, Smiley, and Yoakum, TX

AGENCY: Federal Communications Commission.

ACTION: Final rule.

SUMMARY: In response to a Notice of Proposed Rule Making, 67 FR 57779 (September 12, 2002), this Report and Order allots Channel 280A to Smiley, Texas, as its first local aural transmission service. It also dismisses a counterproposal filed by New Ulm Broadcasting Company (“New Ulm”) at New Ulm's request and dismisses a counterproposal submitted by LBR Enterprises, Inc. as unacceptable for consideration. The coordinates for Channel 280A at Smiley, Texas, are 29-14-17 NL and 97-32-07 WL, with a site restriction of 10.3 kilometers (6.4 miles) east of Smiley. The Mexican Government has concurred with this allotment.

DATES: Effective December 10, 2004.

FOR FURTHER INFORMATION CONTACT: R. Barthen Gorman, Media Bureau, (202) 418-2180.

SUPPLEMENTARY INFORMATION: This is a synopsis of the Commission's Report and Order in MB Docket No. 02-248, adopted October 20, 2004, and released October 25, 2004. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, and 336.

§ 73.202 [Amended]

2. Section 73.202(b), the Table of FM Allotments under Texas, is amended by adding Smiley, Channel 280A.

Federal Communications Commission.
John A. Karousos,
Assistant Chief, Audio Division, Media Bureau.

[FR Doc. 04-24830 Filed 11-5-04; 8:45 am]

BILLING CODE 6712-01-P